ENVIRONMENTAL PROTECTION AGENCY

[EPA-HQ-RCRA-2015-0107; FRL-9929-08-OEI]

Information Collection Request Submitted to OMB for Review and Approval; Comment Request; Identification, Listing and Rulemaking Petitions (Renewal)

AGENCY: Environmental Protection Agency (EPA).

ACTION: Notice.

SUMMARY: The Environmental Protection Agency has submitted an information collection request (ICR), “Identification, Listing and Rulemaking Petitions (Renewal)” (EPA ICR No. 1189.26, OMB Control No. 2050-0053) to the Office of Management and Budget (OMB) for review and approval in accordance with the Paperwork Reduction Act (44 U.S.C. 3501 et seq.). This is a proposed extension of the ICR, which is currently approved through June 30, 2015. Public comments were previously requested via the Federal Register (80 FR 13372) on March 13, 2015 during a 60-day comment period. This notice allows for an additional 30 days for public comments. A fuller description of the ICR is given below, including its estimated burden and cost to the public. An Agency may not conduct or sponsor and a person is not required to respond to a collection of information unless it displays a currently valid OMB control number.

DATES: Additional comments may be submitted on or before July 27, 2015.

ADDRESSES: Submit your comments, referencing Docket ID Number EPA-HQ-RCRA-2015-0107, to (1) EPA online using www.regulations.gov (our preferred method), by email to rcradocket@epa.gov, or by mail to: EPA Docket Center, Environmental Protection Agency, Mail Code 28221T, 1200 Pennsylvania Ave. NW., Washington, DC 20460, and (2) OMB via email to oira_submission@omb.eop.gov. Address comments to OMB Desk Officer for EPA.

EPA's policy is that all comments received will be included in the public docket without change including any personal information provided, unless the comment includes profanity, threats, information claimed to be Confidential Business Information (CBI) or other information whose disclosure is restricted by statute.

FOR FURTHER INFORMATION CONTACT: Narendra Chaudhari, Materials Recovery and Waste Management Division, Office of Resource Conservation and Recovery, (5304P), Environmental Protection Agency, 1200 Pennsylvania Ave. NW., Washington, DC 20460; telephone number: 703-308-0454; fax number: 703-308-0514; email address: chaudhari.narendra@epa.gov.

SUPPLEMENTARY INFORMATION: Supporting documents which explain in detail the information that the EPA will be collecting are available in the public docket for this ICR. The docket can be viewed online at www.regulations.gov or in person at the EPA Docket Center, WJC West, Room 3334, 1301 Constitution Ave. NW., Washington, DC. The telephone number for the Docket Center is 202-566-1744. For additional information about EPA's public docket, visit http://www.epa.gov/dockets.

Abstract: Under the authority of the Resource Conservation and Recovery Act of 1976 (RCRA), as amended, Congress directed the U.S. Environmental Protection Agency (EPA) to implement a comprehensive program for the safe management of hazardous waste. In addition, Congress wrote that “[a]ny person may petition the Administrator for the promulgation, amendment or repeal of any regulation” under RCRA (section 7004(a)).

40 CFR parts 260 and 261 contain provisions that allow regulated entities to apply for petitions, variances, exclusions, and exemptions from various RCRA requirements.

The following are some examples of information required from petitioners under 40 CFR part 260. Under 40 CFR 260.20(b), all rulemaking petitioners must submit basic information with their demonstrations, including name, address, and statement of interest in the proposed action. Under § 260.21, all petitioners for equivalent testing or analytical methods must include specific information in their petitions and demonstrate to the satisfaction of the Administrator that the proposed method is equal to, or superior to, the corresponding method in terms of its sensitivity, accuracy, and reproducibility. Under § 260.22, petitions to amend part 261 to exclude a waste produced at a particular facility (more simply, to delist a waste) must meet extensive informational requirements. When a petition is submitted, the Agency reviews materials, deliberates, publishes its tentative decision in the Federal Register, and requests public comment. EPA also may hold informal public hearings (if requested by an interested person or at the discretion of the Administrator) to hear oral comments on its tentative decision. After evaluating all comments, EPA publishes its final decision in the Federal Register.

Form Numbers: None.

Respondents/affected entities: Regulated businesses/industries.

Respondent's obligation to respond: Mandatory (RCRA 7004(a)).

Estimated number of respondents: 26,041 (total).

Frequency of response: On occasion.

Total estimated burden: 484,789 hours (per year). Burden is defined at 5 CFR 1320.03(b).

Total estimated cost: $78,895,502 (per year), includes $51,648,460 annualized capital or operation & maintenance costs.

Changes in the Estimates: There is an increase of 346,943 hours in the total estimated respondent burden compared with the ICR currently approved by OMB. This increase is due to the consolidation of ICRs 2127.03, 2455.01, and 2421.04 into this ICR 1189.26. The base ICR had a decrease of 8,192 hours, which is due to estimates gathered from the regulated community. This increase is also due to combining the burden estimate for the Coal Combustion Residuals Final Rule from ICR 1189.25.

Courtney Kerwin,
Acting Director, Collection Strategies Division.

[FR Doc. 2015-15670 Filed 6-25-15; 8:45 am]

BILLING CODE 6560-50-P